DEPARTMENT OF STATE

[Public Notice: 5770]

30-Day Notice of Proposed Information Collection: DS-4100, Iran Program Vetting, OMB 1405-0176

ACTION: Notice of request for public comment and submission to OMB of proposed collection of information.

SUMMARY: The Department of State has submitted the following information collection request to the Office of Management and Budget (OMB) for approval in accordance with the Paperwork Reduction Act of 1995.

• Title of Information Collection: Iran program vetting.

• OMB Control Number: OMB 1405-0176.

• Type of Request: Extension of currently approved collection.

• Originating Offices: Bureau of Near Eastern Affairs, Bureau of Democracy Human Rights and Labor, Bureau of Educational and Cultural Affairs.

• Form Number: DS 4100.

• Respondents: Program applicants.

• Estimated Number of Respondents: 200.

• Estimated Number of Responses: 200.

• Average Hours per Response: 1 hour.

• Total Estimated Burden: 200 hours.

• Frequency: On occasion.

• Obligation to Respond: Required to Obtain or Retain Benefit.

DATE(S): Submit comments to the Office of Management and Budget (OMB) for up to 30 days from April 13, 2007.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: You may obtain copies of the proposed information collection and supporting documents from Thomas Hill, who may be reached at 202-647-2942 or at HillTM2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection:

A critical component of the Administration's Iran policy is the support for indigenous Iranian voices calling for freedom. President Bush himself has pledged this support and the State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. 2339A and 2339B; Executive Order 13224; and Homeland Security Presidential Directive 6. These licensing conditions mandate that the Department conduct a vetting of potential Iran democracy grantees and sub-grantees for counter-terrorism purposes. To conduct this vetting the Department will collect information from grantees and sub-grantees regarding the identity and background of their key employees and Boards of Directors.

Methodology:

DS 4100 information collection device will be forwarded to potential grantee electronically; respondents will be requested to return form to appropriate Department of State Bureau via fax, post-mail, or electronically.

Dated: March 16, 2007.
David M. Denehy,
Senior Advisor, Bureau of Near Eastern Affairs, Department of State.

[FR Doc. E7-7045 Filed 4-12-07; 8:45 am]

BILLING CODE 4710-31-P